COMMISSION ON CIVIL RIGHTS

Sunshine Act Meeting; Commission on the Social Status of Black Men and Boys (CSSBMB)

AGENCY: Commission on the Social Status of Black Men and Boys (CSSBMB), U.S. Commission on Civil Rights.

ACTION: Notice of CSSBMB public business meeting.

DATES: Friday, November 17, 2023, from 11:00 a.m.-12:00 p.m. EDT.

ADDRESSES: The briefing will take place virtually via YouTube: https://www.youtube.com/user/USCCR/videos.

FOR FURTHER INFORMATION CONTACT: Diamond Newman, 202-339-2371, dnewman@usccr.gov.

SUPPLEMENTARY INFORMATION: In accordance with Public Law 116-156, 1134 Stat. 700 (2020), the Commission on the Social Status of Black Men and Boys (CSSBMB) will hold its First Quarter Business Meeting exploring CSSBMB business items, operations, and next steps.

This business meeting is open to the public via livestream on the Commission on Civil Rights' YouTube Page at https://www.youtube.com/user/USCCR/videos. (Streaming information subject to change.) Public participation is available for the event with view access, along with an audio option for listening. Computer assisted real-time transcription (CART) will be provided. The web link to access CART (in English) on Friday, November 17 is https://www.steamtext.net/player?event=USCCR (*subject to change, please visit usccr.gov for updates). Please note that CART is text-only translation that occurs in real time during the meeting and is not an exact transcript.

* Date and meeting details are subject to change. For more information on the CSSBMB or the upcoming public briefing, please visit www.usccr.gov/CSSBMB and CSSBMB's Instagram, Facebook, and X.

Briefing Agenda

I. Opening Remarks by CSSBMB Chair, Frederica S. Wilson

II. Call to Order and Quorum

III. Approval of Agenda

IV. New Order of Business

V. Adjourn Briefing

Dated: November 13, 2023.
Angelia Rorison,
Director of Media and Communications, United States Commission on Civil Rights.

[FR Doc. 2023-25321 Filed 11-13-23; 4:15 pm]

BILLING CODE 6335-01-P